DEPARTMENT OF THE INTERIOR

Bureau of Land Management

[LLCO910000-L10100000.PH0000]

Notice of the Joint Colorado Resource Advisory Council Meeting

AGENCY: Bureau of Land Management, Interior.

ACTION: Notice of public meetings.

SUMMARY: In accordance with the Federal Land Policy and Management Act of 1976 (FLPMA) and the Federal Advisory Committee Act of 1972 (FACA), the U.S. Department of the Interior, Bureau of Land Management (BLM) Northwest Colorado Resource Advisory Council (RAC), Southwest RAC, and Front Range RAC will meet as indicated below.

DATES: The Northwest, Southwest and Front Range Colorado RACs have scheduled a joint meeting for March 6, 7 and 8, 2012. March 6 the meeting will begin at 1 p.m. and adjourn at 4:45 p.m.; on March 7 the meeting will begin at 8 a.m. and adjourn at 5 p.m.; on March 8 the meeting will begin at 8 a.m. and adjourn at noon. A 55-minute public comment period, from 3:50 p.m. to 4:45 p.m., is scheduled for March 6, 2012. The Northwest, Southwest and Front Range RACs will hold individual RAC meetings from 3:30 p.m. to 5 p.m. on March 7 and 8 a.m. to noon on March 8.

ADDRESSES: The Joint Colorado RAC (JCRAC) meeting will be held at the Holiday Inn Express Hotel and Suites, 1391 South Townsend Avenue, Montrose, CO 81401.

FOR FURTHER INFORMATION CONTACT: Deanna Masterson, Public Affairs Specialist, BLM Colorado State Office, 2850 Youngfield St., Lakewood, CO 80215, telephone (303) 239-3671.

SUPPLEMENTARY INFORMATION: The Colorado RACs advise the Secretary of the Interior, through the BLM, on a variety of public land issues in Colorado. Topics of discussion during the RAC meeting may include working group reports, the National Landscape Conservation System strategy implementation, vegetation management, BLM internet, air quality and the General Land Office anniversary. These meetings are open to the public. The public may present written comments to the RAC. There will also be time, as identified above, allocated for hearing public comments. Depending on the number of people who wish to comment during the public comment period, individual comments may be limited.

The Northwest RAC will consider one fee adjustment proposal for the Kremmling Field Office from 9 a.m. to 10 a.m. on March 8, with a specific public comment period on that proposal scheduled for 9:30 a.m. The fee adjustment proposal would adjust the fee structure at the Pumphouse and Radium recreation sites along the Upper Colorado River. Fees have been charged here since 1998. Adjustments are needed to keep pace with increased costs of maintaining and improving these areas. More information about this proposal and the complete agenda for the individual Northwest RAC meeting are available on the Northwest RAC's Web site at http://www.blm.gov/co/st/en/BLM_Resources/racs/nwrac.html. A second, general public comment period that does not include the fee adjustment proposal is scheduled for the Northwest RAC at 10 a.m. on March 8.

Topics of discussion for all Southwest Colorado RAC meetings may include field manager and working group reports, recreation, fire management, land use planning, invasive species management, energy and minerals management, travel management, wilderness, land exchange proposals, cultural resource management and other issues as appropriate.

Topics of discussion at the Front Range RAC meeting may include manager updates and resource management planning. A general public comment period is scheduled for the Front Range RAC at 3:45 p.m. on March 7.

Helen M. Hankins,
State Director.

[FR Doc. 2012-2003 Filed 1-30-12; 8:45 am]

BILLING CODE 4310-JB-P